DEPARTMENT OF AGRICULTURE

Submission for OMB Review; Comment Request

December 19, 2019.

The Department of Agriculture has submitted the following information collection requirement(s) to OMB for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by January 27, 2020 will be considered. Written comments should be addressed to: Desk Officer for Agriculture, Office of Information and Regulatory Affairs, Office of Management and Budget (OMB), New Executive Office Building, 725—17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Rural Housing Service

Title: Multi-Family Housing Preservation and Revitalization Restructuring Demonstration Program (MPR).

OMB Control Number: 0575-0190.

Summary of Collection: The Agriculture, Rural Development, Food and Drug Administration, and Related Agencies Appropriations Act, 2006 (Pub. L. 109-97) provides funding for, and authorizes the Rural Housing Service (RHS) to conduct a demonstration program for the preservation and revitalization of the Section 515 Multi-Family Housing portfolio. Section 515 of the Housing Act of 1949 provides Rural Development the authority to make loans for low-income Multi-Family Housing and related facilities.

The Consolidated Appropriations Act, 2016, (Pub. L. 114-113) authorized USDA to conduct A demonstration program for the preservation and revitalization of the Sections 514, 515, and 516 multi-family rental housing properties to restructure existing USDA/Multi-Family Housing (MFH) loans to ensure the project has sufficient resources to provide safe and affordable housing for low-income residents and farm laborers.

Need and Use of the Information: RHS will collect information from the proposer to evaluate the strengths and weaknesses to which the proposal concept possesses or lacks to select the most feasible proposals that will enhances the Agency's chances in accomplishing the demonstration objective. The information will be utilized to sustain and modify RHS' current policies pertaining to revitalization and preservation of affordable rental housing in rural areas.

Description of Respondents: Individuals or Households; Not-for-profit institutions; State, Local, or Tribal Government.

Number of Respondents: 1,500.

Frequency of Responses: Recordkeeping; Reporting: Annually.

Total Burden Hours: 25,293.

Ruth Brown,
Departmental Information Collection Clearance Officer.

[FR Doc. 2019-27773 Filed 12-23-19; 8:45 am]

BILLING CODE 3410-XV-P